ENVIRONMENTAL PROTECTION AGENCY

40 CFR Part 300

[EPA-HQ-SFUND-1983-0002; FRL-9840-3]

National Oil and Hazardous Substances Pollution Contingency Plan; National Priorities List: Deletion of the Craig Farm Drum Superfund Site

AGENCY: Environmental Protection Agency (EPA).

ACTION: Direct Final Rule.

SUMMARY: The Environmental Protection Agency (EPA) Region III is publishing a direct final Notice of Deletion for the Craig Farm Drum Superfund Site (Site) located in Perry Township, Armstrong County, Pennsylvania, from the National Priorities List (NPL). The NPL, promulgated pursuant to Section 105 of the Comprehensive Environmental Response, Compensation, and Liability Act (CERCLA) of 1980, as amended, is an appendix of the National Oil and Hazardous Substances Pollution Contingency Plan (NCP). This direct final deletion is being published by EPA with the concurrence of the Commonwealth of Pennsylvania, through the Pennsylvania Department of Environmental Protection (PADEP), because EPA has determined that all appropriate response actions under CERCLA, other than operation, maintenance, and Five Year Reviews, have been completed. However, this deletion does not preclude future actions under Superfund.

DATES: This direct final deletion is effective September 30, 2013 unless EPA receives adverse comments by August 29, 2013. If adverse comments are received, EPA will publish a timely withdrawal of the direct final deletion in the Federal Register informing the public that the deletion will not take effect.

ADDRESSES: Submit your comments, identified by Docket ID no. EPA-HQ-SFUND-1983-0002, by one of the following methods:

• http://www.regulations.gov. Follow on-line instructions for submitting comments.

• Email: Epps.John@epa.gov.

• Fax: (215) 814-3002.

• Mail: John Epps, 1650 Arch Street, Mail Code 3HS22, Philadelphia, PA 19103.

• Hand Delivery: John Epps, 1650 Arch Street, Mail Code 3HS22, Philadelphia, PA 19103; Such deliveries are only accepted during the Docket's normal hours of operation, and special arrangements should be made for deliveries of boxed information.

Instructions: Direct your comments to Docket ID no. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information the disclosure of which is restricted by statute. Certain other material, such as copyrighted material, will be publicly available only in the hard copy. Publicly available docket materials are available either electronically in http://www.regulations.gov or in hard copy at: EPA Administrative Records Room, 1650 Arch Street, Philadelphia, PA 19103, (215) 814-3157; Hours: Monday through Friday, 8:00 a.m. to 4:30 p.m.; by appointment only. Karns City Area High School Office, 1446 Kittanning, Karns City PA 16041, (726) 756-2030; Please call to schedule an appointment.

FOR FURTHER INFORMATION CONTACT: John Epps, Remedial Project Manager, U.S. Environmental Protection Agency, Region III, 1650 Arch Street, Mail Code 3HS22, Philadelphia, PA 19103, (215) 814-3144, Email: Epps.John@epa.gov.

SUPPLEMENTARY INFORMATION:

Table of Contents

I. Introduction

II. NPL Deletion Criteria

III. Deletion Procedures

IV. Basis for Site Deletion

V. Deletion Action

I. Introduction

EPA Region III is publishing this direct final Notice of Deletion of the Craig Farm Drum Superfund Site from the National Priorities List (NPL). The NPL constitutes Appendix B of 40 CFR Part 300 which is the National Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

Because EPA considers this action to be noncontroversial and routine, this action will be effective September 30, 2013 unless EPA receives adverse comments by August 29, 2013. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Craig Farm Drum Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA Section 121(c) and the NCP, EPA conducts Five Year Reviews to ensure the continued protectiveness of remedial actions where hazardous substances, pollutants, or contaminants remain at a site above levels that allow for unlimited use and unrestricted exposure. EPA conducts such Five Year Reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the Commonwealth of Pennsylvania prior to developing this direct final Notice of Deletion and the Notice of Intent to Delete co-published today in the “Proposed Rules” section of the Federal Register.

(2) EPA has provided the Commonwealth 30 working days for review of this notice and the parallel Notice of Intent to Delete prior to their publication today, and the Commonwealth, through PADEP, has concurred on the deletion of the Site from the NPL in a letter dated May 1, 2013.

(3) Concurrently with the publication of this direct final Notice of Deletion, a notice of the availability of the parallel Notice of Intent to Delete is being published in a major local newspaper, the Butler Eagle. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Craig Farm Drum Superfund Site (the Site), CERCLIS ID PAD980508527, consists of approximately 117 acres located in Perry Township, in the vicinity of the village of Fredericksburg, near the western border of Armstrong County, Pennsylvania. The Site is located approximately two miles east of the Borough of Petrolia and approximately four miles south of the town of Parker and the Allegheny River. Land use surrounding the Site is primarily agricultural and limited residential.

The Site was historically operated as a strip mine, resulting in two abandoned mine pits following the cessation of operations, prior to 1958. Typical of strip mining operations in the vicinity of the Site, the mining pits were cut into a hillside where the coal seam outcropped or subcropped. The pit walls were formed by the working face (highwall) of the mine and the spoil piles were staged away from the working face.

From 1958 through 1963, 55-gallon drums containing still bottom residue from the manufacturing of Resorcinol at the nearby Koppers Chemical Company (Koppers) plant were deposited in the abandoned former strip mine pits, hereinafter known as the north and south disposal pits. Resorcinol, also known as 1,3-benzenediol, m-benzenediol, 1,3-dihydroxybenzene, m-dihydroxybenzene, 3-hydroxyphenol, or m-hydroxyphenol, is an organic compound used as an adhesive enhancer in the production of automobile tires and in pharmaceuticals.

The residue, consisting of resorcinol and other higher polymers, is characterized as a CERCLA hazardous substance but not as a Resource Conservation and Recovery Act (RCRA) hazardous waste. Approximately 2,500 tons of material were placed in the disposal pits by Mr. Herman Craig, Site owner Paul Craig's brother. During deposition and during the time the drums were stored on-site, many drums were damaged, resulting in a release of the residue to the environment.

The Site was proposed for placement on the National Priorities List (NPL) on December 30, 1982 (47 FR 58476 (1982-12-30)), and listed on the NPL on September 8, 1983 (48 FR 40658 (1983-09-08)).

Currently, the Site is undeveloped, with the exception of the components of the remedy. No proposed redevelopment plan currently exists for the Site. At the time of the Record of Decision (ROD) in 1989, it was anticipated that the Site may be used in the future for recreational purposes. Due to the extremely rural location and steeply sloping nature of the Site, commercial or residential development potential is limited.

Remedial Investigation and Feasibility Study (RI/FS)

An Environmental Assessment (EA) of the Site was conducted in 1983 prior to the final listing of the Site on the NPL and consisted of the following components:

• Hydrogeologic study;

• Surface water sampling study;

• Stream biological study;

• Air quality survey.

Additionally, test pits were installed in 1984 in the vicinity of the disposal pits to determine the extent and condition of the drums containing still-bottom residue. The investigation indicated that the majority of the drums were crushed, broken, or without lids.

Following the listing of the Site on the NPL in September 1983, the RI/FS was conducted from February 1986 through November 1987 and consisted of the following components:

• Biological survey;

• Biota survey;

• Surface water and sediment characterization;

• Groundwater characterization.

Additional groundwater monitoring wells were installed in November 1988 to further delineate the extent of groundwater contamination.

Test pits installed in the vicinity of the disposal pits in 1984 prior to the RI/FS indicated the still bottom residue consisted of black to pink semisolid material with some hardened masses. The north disposal pit was observed to be approximately 1.2 to 1.5 acres in lateral extent and the south disposal pit was observed to be approximately 0.8 to 1.0 acres in lateral extent. Analytical data of samples collected during test pit installation indicated that the source material in the disposal pits was located approximately 2.5 and 6.0 feet below ground surface (bgs). Contaminated soil was also observed in the vicinity of the disposal pits during test pit installation, particularly in down-slope areas.

Groundwater quality data collected during the RI/FS indicated the presence of impacted groundwater in three water bearing zones at the Site; the unconsolidated materials zone, the upper bedrock (shale) aquifer, and the lower sandstone aquifer.

The biological survey conducted during the RI/FS indicated that macroinvertebrate communities located downstream from the Site in the Unnamed Creek were stressed due to site-related compounds. The stress was characterized as a lack of macroinvertebrate species that are typically an indicator of good water quality. However, analysis of tissue samples from macroinvertebrates in the Unnamed Creek did not detect any bioaccumulation or biomagnification of site-related compounds. No stress was detected in fish species within Valley Run and the macroinvertebrate community recovered within one mile of the confluence of Valley Run and the Unnamed Creek.

The total non-carcinogenic hazard indices (HIs) calculated for each of the potential receptors were less than 1, indicating that the there was no excess risk of non-carcinogenic health impacts.

The excess individual cancer risk to future miners, based on potential exposure to benzene in groundwater, was lower than EPA's acceptable risk range of 10⁻⁴ to 10⁻⁶. Excess individual cancer risk was not calculated for future off-site domestic well users because potentially carcinogenic compounds are not present in the lower sandstone aquifer, which is the only aquifer that could potentially be developed for drinking water supply. This evaluation indicated that there was no excess risk of cancer based on the evaluated exposure pathways.

In summary, the risk characterization indicated that the overall threat to human health posed by the Craig Farm Drum Site was negligible, primarily due to the limited exposure likelihood based on the current and future Site uses. The evaluation of potential environmental exposure pathways indicated that aquatic life within the Unnamed Creek is being impacted by site-related COCs. Therefore, the selection of the remedy for the Site was based on the Site's impact to the environment only, and not on the impact to human health. The Site was determined to present an imminent and substantial endangerment to the environment as set forth in Section 106 of CERCLA, 42 U.S.C. Section 9606.

Selected Remedy

The ROD for the Site was issued on September 29, 1989. The following Remedial Action Objectives (RAOs) were identified:

• Minimize risk to human health and the environment from direct contact with contaminated material;

• Control the migration of contaminants into nearby surface waters;

• Control the migration of contaminants into groundwater.

The ROD divided the Site into three Operable Units (OUs). OU-1 consisted of the resorcinol residue material in the former disposal pits and an adjacent contaminated soils containing detectable concentrations (>50 mg/kg) of resorcinol. OU-2 consisted of clean soils that needed to be moved to access OU-1 material. OU-3 consisted of two contaminated seeps, identified as Seeps A and B, located downgradient of the former disposal pits.

In order to address these OUs and meet the RAOs, the Selected Remedy in the ROD consisted of the following components:

• Excavation of 32,000 cubic yards of material from the disposal pits and surrounding areas;

• On-site solidification of excavated material;

• Placement of the solidified material in an newly constructed on-site RCRA equivalent, double lined, fenced landfill;

• Wetland delineation and subsequent construction of a one-acre on-site wetland to replace wetlands destroyed in construction of the on-site landfill;

• Implementation of institutional controls alerting property owners of contamination;

• Passive collection of groundwater using a seep interceptor system with off-site treatment;

• Monitoring of both on-site and off-site groundwater and surface water.

The 1989 ROD indicated that the completeness of the remedy would be determined by using an EPA-approved bioassay test procedure. The bioassay testing has historically been performed on both Seeps A and B as discussed in the sections below.

The 1989 ROD also required that a Groundwater Verification Study be performed during Remedial Design (RD) in to determine if groundwater at the Site would require further remediation. The Groundwater Verification Study was conducted in 1991 and indicated that contaminant levels in groundwater did not differ significantly from those detected during the RI and would therefore not pose a significant risk to human health. Based on the results of the Groundwater Verification Study, no additional groundwater remediation was required.

Historically, groundwater collected by the seep interceptor system was taken to a Beazer-owned off-site facility for treatment. However, that facility was planned to be shut down in 2010. Therefore, from March 2007 through September 2008, Beazer conducted a Focused Feasibility Study (FFS) to evaluate additional remedial alternatives for the wastewater collected by the seep interceptor system (OU-3). As a result of the FFS, the Selected Remedy was modified by a September 18, 2009 Explanation of Significant Differences (ESD), consisting of the following components:

• Installation of an impermeable cap on the 3-acre, former north pit area to reduce infiltration of clean water through north pit materials (referred to as the Seep A Cap);

• Excavation/fill of existing ground surface in vicinity of former north pit to required grade;

• Installation of bioswales or other infiltration features to direct clean surface water flow from capped area;

• Installation of groundwater infiltration system into deep bedrock upgradient of the former north pit to prevent upgradient groundwater from flowing through north pit materials ¹;

¹ Although the groundwater infiltration system was selected as a component of the remedy modification, groundwater monitoring following the installation of the Seep A Cap indicated that the infiltration system would not be necessary and the system was not installed. A Preliminary Design Investigation was conducted to evaluate the feasibility of installing the system, as documented in the June 4, 2010 Final Design Report included in the Deletion Docket.

• Continued maintenance of the Seep A collection trench, piping, and storage tank to collect contaminated overburden groundwater;

• Treatment of collected Seep A water at an alternative off-site treatment facility;

• The Seep B collection trench would remain in place but valves would be closed so that the system no longer collected water;

• Clarification of the requirements for the institutional controls selected in the 1989 ROD.

Response Actions

The Selected Remedy from the 1989 ROD was implemented from May 1994 through December 1995 in accordance with the September 27, 1993 Remedial Design and October 9, 1990 Consent Decree (CD). The final inspection was conducted on December 15, 1995 and completion of the Remedial Action was documented in the Remedial Action Completion Report, accepted by EPA on April 26, 1994.

EPA issued a Final Close Out Report (FCOR) on December 27, 1995 to document completion of the remedy specified in the 1989 ROD. The FCOR documented Construction Completion rather than Site Completion because institutional controls were not in place at the time of the FCOR. Additional response actions were also required by the 2009 ESD following the issuance of the 1995 FCOR, as described below. The institutional controls were implemented in 2004 in accordance with the recommendations of the Second Five Year Review and the requirements for the institutional controls were clarified in the 2009 ESD. Institutional controls are discussed in additional detail in the Operations and Maintenance section below.

The remedy modification in the 2009 ESD was implemented from May through August 2010 in accordance with the June 4, 2010 Final Design Report. The final inspection was conducted on September 20, 2010 and completion of the remedy modification was documented in the November 30, 2010 Remedial Action Report, accepted by EPA on December 22, 2010.

EPA issued a Revised FCOR on June 19, 2013 to summarize the findings of the 1995 FCOR, describe the implementation of institutional controls, and document the additional response actions performed in accordance with the 2009 ESD.

Cleanup Goals

The RAOs established in the 1989 ROD have been achieved by the Selected Remedy, as modified by the 2009 ESD.

The RAO of minimizing the risk to human health and the environment from direct contact with contaminated material has been achieved via the excavation and solidification of material from the disposal pits, placement of the solidified material in a newly constructed on-site landfill, and installation of the seep interceptor system. Potential direct contact was further minimized via installation of the Seep A Cap over the north disposal pit area.

Furthermore, although not a component of the remedy, the Site is located within the Bear Creek Area Chemical Site (BCACS). The BCACS consists of multiple Sites that are impacted by contaminants primarily related to resorcinol manufacturing and are being addressed by either EPA or PADEP. Between 2003 and 2007, PADEP connected residents within the BCACS to public water and required communities therein to institute public water connection ordinances. The location of the Site within the BCACS therefore further reduces the potential for direct contact with Site-related contaminants in groundwater.

The RAO of controlling the migration of contaminants into nearby surface water bodies, primarily the Unnamed Creek, has been achieved via the installation of the seep interceptor system and enhanced by the installation of the Seep A Cap. Demonstration of achievement of this RAO with respect to numerical performance standards is discussed in additional detail below.

As discussed above in the summary of the RI/FS, the contaminants of concern (COCs) at the Site consist of the following compounds:

• Benzene;

• Resorcinol;

• Benzene metadisulfonic acid (m-BDSA);

• Benzene sulfonic acid (BSA);

• p-Phenol sulfonic acid (p-PSA);

• Trihydroxydiphenyl (THD).

Phenol, m-phenol sulfonic acid (m-PSA), and multiple metals were also identified as Site COCs in the 1989 ROD, however, these compounds were eliminated as Site COCs following the Groundwater Verification Study in 1991. No PADEP Water Quality Criteria for Toxic Substances (PADEP WQC) existed at the time of the ROD for resorcinol, m-BDSA, BSA, p-PSA, or THD and no numerical performance standards were established for these compounds in the 1989 ROD in surface water. Benzene has not been detected in surface water since 1987 during the RI for the Site and has therefore achieved the PADEP WQC.

PADEP WQC were proposed for resorcinol, m-BDSA, BSA, and p-PSA in February 2012 as show in the table below. No PADEP WQC was proposed for THD due primarily to the difficulty in analyzing for that compound. Instead, the remaining resorcinol-related compounds are considered indicator parameters for THD.

Compound | Fish and aquatic life criteria: Chronic WQC criterion continuous concentration (μg/L) | Fish and aquatic life criteria: Acute WQC criterion maximum concentration (μg/L) | Human health criteria (μg/L)
Resorcinol | 7200 | 28000 | 2700
m-BDSA | 1600000 | 2600000 | N/A
BSA | 1200000 | 2000000 | N/A
p-PSA | 1400000 | 3500000 | N/A

The Unnamed Creek was considered the receptor for Site-related contaminants in the 1989 ROD due to the observed impact to macroinvertebrates in the creek. As discussed above, the ROD includes an RAO to control migration of contaminants into the creek. In order to determine if this RAO has been achieved, analytical data from the Unnamed Creek was compared to the PADEP WQC presented above.

Sampling of the Unnamed Creek was historically conducted on a quarterly basis for the first year following construction of the remedy in 1995, on a semi-annual basis for the second year following construction, and annually during the third year following construction. Historic sampling did not indicate the presence of Site-related contaminants in the Unnamed Creek at that time and sampling of the creek was discontinued in 1998.

In order to evaluate the effectiveness of the remedy modification selected in the 2009 ESD, two additional sampling events were conducted in the Unnamed Creek in March 2011 and January 2012. During those sampling events, m-BDSA was detected in the Unnamed Creek at a concentration of 97 μg/L in March 2011 and 77 μg/L in January 2012, below the criteria listed above by multiple orders of magnitude. THD was detected at a concentration of 70 μg/L during the January 2012 sampling event and was not detected in March 2011. No other Site COCs were detected in the Unnamed Creek during either of the sampling events conducted since the installation of the Seep A cap.

Additionally, the 1989 ROD indicated that completeness of the remedy will be determined by performing bioassay testing. Bioassay testing has been performed on water collected from Seep A and Seep B, but not on water from the Unnamed Creek. In the 2009 ESD, EPA determined that water collected by Seep B no longer exhibited toxicity based on the bioassay testing data. Current data from the Unnamed Creek indicate that Site COC concentrations are either non-detect or are below the concentrations detected in Seep B. Therefore, the water in the Unnamed Creek also does not exhibit toxicity according to the bioassay criteria. Because the Unnamed Creek is considered the receptor for Site-related contamination, the remedy for OU-3 can be considered complete. Water collected by Seep A continues to exhibit toxicity based on recent bioassay sampling and will continue to be collected as an O&M task until the bioassay criteria are reached in order to prevent contaminated groundwater from discharging to the Unnamed Creek. Based on current contaminant trends in Seep A water, the bioassay criteria are expected to be reached in approximately two years.

Based on a comparison to currently proposed PADEP WQC and Site-specific bioassay criteria, the remedy has achieved the RAO of controlling contaminant migration into the Unnamed Creek as specified in the 1989 ROD.

The RAO of controlling the migration of contaminants into groundwater has been achieved via the installation of the seep interceptor system and enhanced by the installation of the Seep A Cap. At the time of the ROD, it was determined that the concentrations of Site COCs in groundwater did not present a current or potential future risk to human health. Additionally, no Maximum Contaminant Levels (MCLs) for Site COCs existed at the time of the 1989 ROD and no MCLs currently exist or are proposed. Although not selected as an Applicable or Relevant and Appropriate Requirement (ARAR) in the 1989 ROD, since the ROD was issued, PADEP promulgated a State-Wide Health Standard (SHS) Medium Specific Concentration (MSC) for resorcinol in groundwater of 73,000 μg/L for residential use and 200,000 μg/L for non-residential use. Groundwater monitoring was historically conducted on a semi-annual basis from 1999 through 2010. The highest detection of resorcinol during the monitoring period was 50,600 μg/L in February of 2000, below the PADEP SHS MSCs and concentrations have continued to decline. Groundwater monitoring has been conducted three times since 2010. In the three most recent sampling events conducted in March 2011, January 2012, and July 2012 the highest detection of resorcinol was 27,100 μg/L, below the PADEP SHS MSCs. The concentrations of all Site COCs in groundwater have significantly decreased, in most cases by an order of magnitude, since the 1989 ROD was issued. Therefore, the current concentrations of Site COCs in groundwater do not present a current or potential future risk to human health. Based on this information, the remedy has achieved the RAO of controlling contaminant migration into groundwater as specified in the 1989 ROD.

The remedy is currently protective of human health and the environment and all RAOs specified in the 1989 ROD have been achieved. Operation and maintenance of the remedy and institutional controls, as described below, will ensure the long-term protection of human health and the environment.

Operation and Maintenance

Long-term monitoring and maintenance at the Site is conducted in accordance with the Operations and Maintenance Plan (O&M Plan) initially dated July 14, 1993 and revised on April 15, 2013 following the completion of the remedy modification and subsequent initial monitoring. The O&M Plan, as revised, consists of the following components:

• Annual site inspection of the following: on-site landfill/cap, former south disposal pit area, Seep A collection piping, above ground storage tank, Seep A cap/bioswale/stormwater swale, and ancillary facilities.

• Groundwater sampling and analysis;

○ Landfill Wells—Hydraulic monitoring and sampling every five years to coincide with Five Year Reviews;

○ Groundwater Monitoring Wells—Annual hydraulic monitoring, sampling every five years to coincide with Five Year Reviews.

• Surface water sampling and analysis;

○ Annual sampling through 2014, after which samples will be collected every five years to coincide with Five-Year Reviews.

• Seep water collection and disposal (seep interceptor system Seep A);

○ Off-site disposal as needed;

○ Periodic sampling to determine if collected water (Seep A) meets bioassay criteria.

• Leachate collection and disposal (on-site landfill);

○ Pumping, collection, and off-site disposal as needed.

• Progress reporting;

○ Reporting every five years to coincide with Five Year Reviews.

The 1989 ROD for the Site required that institutional controls be placed on the Site to ensure the protectiveness of the remedy. The 2004 Second Five Year Review indicated that the institutional controls were not yet in place, and subsequently the institutional controls were implemented on September 23, 2004 in the form of a deed restriction consisting of the following:

• No groundwater beneath the Site may be used and no wells may be installed on the Site for human consumption, irrigation, or other purpose that may bring it into contact with humans, except for testing purposes as required by law, remedial action/design, or the terms of the Consent Decree;

• No structure may be placed on the Site that would disturb the cap or stabilized contents of the landfill or would otherwise disturb any component of the remedial action/design without prior written approval of the Site owner and EPA;

• The Site may not be used for the purposes of living, dwelling, or overnight accommodations of any type;

• No action may be taken that will interfere with, obstruct, or disturb the performance of any remedial response, including O&M;

• Any Site owner must provide any purchaser with notice of the terms of the Consent Decree prior to transferring any interest in the Site.

The 2009 Third Five Year Review indicated that the requirement for institutional controls was in the declaration portion of the 1989 ROD only and not in the remedy selection portion. Therefore, EPA included a clarification of the requirement for institutional controls in the 2009 ESD to ensure that the controls remain in place and effective.

Five-Year Reviews

Three Five Year Reviews have been conducted at the Site in 1999, 2004, and 2009. The Protectiveness Statement in the 2009 Third Five Year Review was as follows:

“The remedy at the Craig Farm Drum Site is protective of human health and the environment in the short and long term. Physical construction is complete and institutional controls have been implemented.

Protection of human health and the environment has been achieved by the installation of a RCRA-equivalent landfill to contain waste (OU-1) and a seep interceptor system to collect contaminated groundwater for off-site treatment (OU-3). Additionally, protection of human health is enhanced due to the location of the Site within the Bear Creek Area Chemical Site (BCACS), in which all residents are required to connect to public water. Currently, design is underway for the modification of the seep interceptor system by the addition of an impermeable cap and groundwater infiltration system to reduce overburden groundwater flow through contaminated material, further enhancing the protectiveness of the remedy. Finally, the remedy is protective of both human health and the environment in the long-term due to the implementation of institutional controls alerting current and future Site owners of the contaminants on-site and restricting landfill and groundwater use. The requirements for the institutional controls at the Site will be clarified in an ESD to further ensure long-term protectiveness.”

As previously indicated, the ESD referenced above was issued to clarify the institutional controls in September 2009. The next Five Year Review is scheduled to be completed in June 2014.

Community Involvement

The Site is located in an extremely rural area and few residents live in close proximity to the Site. Historically, community involvement activities consisted of a public meeting in 1989 to present the Proposed Remedial Action Plan (PRAP) for the 1989 ROD, availability sessions during construction of the remedy in 1993 and 1994, and public notices prior to conducting Five Year Reviews in 1999, 2004, and 2009.

In accordance with the requirements of 40 CFR 300.425(e)(4), EPA's community involvement activities associated with this deletion will consist of placing the deletion docket in the local site information repository and placing a public notice (of EPA's intent to delete the site from the NPL) in a local newspaper of general circulation.

Determination That the Site Meets the Criteria for Deletion in the NCP

Construction of the remedy at the Site has been completed in accordance with the 1989 ROD and 2009 ESD, institutional controls are in place, and O&M is being conducted in accordance with the O&M Plan. All RAOs, performance standards, and cleanup goals established in the 1989 ROD have been achieved and the remedy is protective of human health and the environment in both the short and long term. No further Superfund response, other than operation, maintenance, and Five Year Reviews, is necessary to protect human health and the environment.

The Site Deletion procedures specified in 40 CFR 300.425(e) have been followed for the deletion of the Site.

V. Deletion Action

The EPA, with concurrence of the Commonwealth of Pennsylvania through PADEP, has determined that all appropriate response actions under CERCLA, other than operation, maintenance, and Five Year reviews have been completed. Therefore, EPA is deleting the Site from the NPL.

Because EPA considers this action to be noncontroversial and routine, EPA is taking it without prior publication. This action will be effective September 30, 2013 unless EPA receives adverse comments byAugust 29, 2013. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 10, 2013.
W.C. Early,
Acting Regional Administrator, Region III.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing Craig Farm Drum Superfund Site, Parker, Pennsylvania.

[FR Doc. 2013-18189 Filed 7-29-13; 8:45 am]

BILLING CODE 6560-50-P